DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before August 24, 2000.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on July 19, 2000.
R. Ryan Posten,
Exemptions Program Officer, Office of Hazardous Materials, Exemptions and Approvals.

New Exemptions
Application No. | Docket No. | Applicant | Regulation(s) affected | Nature of exemption thereof
12481-N | RSPA-00-7594 | Trac Regulator Co., Inc., Mt. Vernon, NY | 49 CFR 173.306 | To authorize the transportation in commerce of a specially designed device consisting of non-specification outer packaging for use in transporting various hazardous materials. (modes 1, 2)
12491-N | RSPA-00-7595 | PPG Industries, Inc., Pittsburgh, PA | 49 CFR 171.12(b)(5), SP T17 | To authorize the transportation in commerce of dichlorophenyl isocyanate, Division 6.1 in IM 101 portable tanks. (modes 1, 3)
12492-N | RSPA-00-7593 | Honeywell International Inc., Morristown, NJ | 49 CFR 173.304 | To authorize the transportation in commerce of liquefied gas, n.o.s., Division 2.2 in DOT-3AL 1800 cylinders. (modes 1, 2, 3)
12493-N | RSPA-00-7579 | Caroline Power & Light Co, Southport, NC | 49 CFR 174.67(i) & (j) | To authorize rail cars to remain attached to unloading devices during intermittent unloading of chlorine, Division 2.3 without the physical presence of an unloader. (mode 2)
12495-N | RSPA-00-7603 | South Carolina Electric & Gas Co., Jenkinsville, SC | 49 CFR 171, 172, 173 | To authorize the transportation in commerce of radioactive material packages, Class 7, from one facility to another using state road that would be transported as essentially unregulated. (mode 1)
12497-N | RSPA-00-7604 | Henderson International Technologies, Inc., Richardson, TX | 49 CFR 173.302(a)(1), 173.314(c) | To authorize the frame mounting and manifolding to a motor vehicle of seamless steel tank cars tanks made in conformance with DOT Specification 107A for the transportation in commerce of certain Division 2.2 gases. (mode 1)

[FR Doc. 00-18779 Filed 7-24-00; 8:45 am]

BILLING CODE 4910-60-M